DEPARTMENT OF COMMERCE

National Oceanic and Atmospheric Administration

15 CFR Part 922

[Docket No. 130405335-5999-03]

RIN 0648-BD18

Notice of Delay of Discharge Requirements for U.S. Coast Guard Activities in Greater Farallones and Cordell Bank National Marine Sanctuaries; Correction

AGENCY: Office of National Marine Sanctuaries (ONMS), National Ocean Service (NOS), National Oceanic and Atmospheric Administration (NOAA), Department of Commerce (DOC).

ACTION: Final rule; delay of effectiveness for discharge requirements with regard to Coast Guard activities; correction.

SUMMARY: The National Oceanic and Atmospheric Administration (NOAA) published a document in the Federal Register of December 1, 2015 concerning the postponement of the discharge requirements for U.S. Coast Guard activities for another 6 months to provide adequate time for completion of an environmental assessment, and subsequent rulemaking, as appropriate. That document was missing the associated Rule Identification Number (RIN).

DATES: Effective on December 15, 2015.

FOR FURTHER INFORMATION CONTACT: Maria Brown, Greater Farallones National Marine Sanctuary Superintendent, at Maria.Brown@noaa.gov or 415-561-6622; or Dan Howard, Cordell Bank National Marine Sanctuary Superintendent, at Dan.Howard@noaa.gov or 415-464-5260.

SUPPLEMENTARY INFORMATION:

Correction

In the Federal Register of December 1, 2015 (80 FR 74985), on page 74985, in the second column, the agency title should have been followed by the RIN 0648-BD18.

Authority: 16 U.S.C. 1431 et seq.; 16 U.S.C. 470.

Dated: December 3, 2015.
John Armor,
Acting Director for the Office of National Marine Sanctuaries.

[FR Doc. 2015-31494 Filed 12-14-15; 8:45 am]

BILLING CODE 3510-NK-P